DEPARTMENT OF TRANSPORTATION

Federal Aviation Administration

Public Notice for Waiver of Aeronautical Land-Use Assurance

AGENCY: Federal Aviation Administration (FAA), DOT.

ACTION: Notice of intent of waiver with respect to land; Alpena County Regional Airport, Alpena, MI.

SUMMARY: The FAA is considering a proposal to change approximately 126.12 acres of airport land from aeronautical use to non-aeronautical use at Alpena County Regional Airport, Alpena, MI. The aforementioned land is not needed for aeronautical use and will be used for revenue producing, non-aeronautical purposes.

The property is located west of Airport Road and north of Highway M-32. The property is currently vacant. The airport intends to market this property for lease to non-aeronautical businesses.

DATES: Comments must be received on or before July 2, 2014.

ADDRESSES: Documents are available for review by appointment at the FAA Airports District Office, Alex Erskine, Program Manager, 11677 South Wayne Road, Suite 107, Romulus, Michigan 48174, Telephone: (734) 229-2900/Fax: (734) 229-2950 and Alpena County Regional Airport, 1617 Airport Road, Alpena, Michigan 49707, Telephone (989) 354-2907.

Written comments on the Sponsor's request must be delivered or mailed to: Alex Erskine, Program Manager, Federal Aviation Administration, Airports District Office, 11677 South Wayne Road, Suite 107, Romulus, Michigan 48174, Telephone Number: (734) 229-2900/FAX Number: (734) 229-2950.

FOR FURTHER INFORMATION CONTACT: Alex Erskine, Program Manager, Federal Aviation Administration, Airports District Office, 11677 South Wayne Road, Suite 107, Romulus, Michigan 48174. Telephone Number: (734) 229-2900/FAX Number: (734) 229-2950.

SUPPLEMENTARY INFORMATION: In accordance with section 47107(h) of Title 49, United States Code, this notice is required to be published in the Federal Register 30 days before modifying the land-use assurance that requires the property to be used for an aeronautical purpose.

The property is currently vacant and is not needed for current or future aeronautical purposes. Approximately 86.27 acres of the property was transferred to Alpena County under the provisions of the Federal Property and Administrative Services Act of 1949 and the Surplus Property Act of 1944. The remaining 39.85 acres was purchased by the County in 1987 with local funds. The airport intends to market this property for commercial non-aeronautical uses. Lease rates will be consistent with fair market value of the land.

The sponsor will control use of the parcel(s) through the terms and conditions of a ground lease(s). The lease will be subordinate to the sponsor's existing grant assurances. This will ensure that all activities contemplated on the parcel will be compatible with FAA requirements and airport operations. The proceeds from the lease of the airport property will be in accordance with FAA's Policy and Procedures Concerning the Use of Airport Revenue, published in the Federal Register on February 16, 1999 (64 FR 7696).

This notice announces that the FAA is considering the release of the subject airport property at the Alpena County Regional Airport, Alpena, Michigan from its obligations to be maintained for aeronautical purposes. Approval does not constitute a commitment by the FAA to financially assist in the disposal of the subject airport property nor a determination of eligibility for grant-in-aid funding from the FAA.

Description For This Survey: A PARCEL OF LAND IN THE WEST ½ OF SECTION 22, T31N, R7E, WILSON TOWNSHIP, ALPENA COUNTY, MICHIGAN, LYING WESTERLY OF THE CENTERLINE OF THE AIRPORT ENTRANCE ROAD, BEING MORE PARTICULARLY DESCRIBED AS FOLLOWS: COMMENCING AT THE NORTHWEST CORNER OF SECTION 22, T31N, R7E; THENCE S 02°07′50″ E 1420.29 FEET ALONG THE WEST LINE OF SAID SECTION 22 TO THE POINT OF BEGINNING; THENCE CONTINUING S 02°07′50″ E 1216.60 FEET ALONG THE WEST LINE OF SAID SECTION 22 TO THE WEST ¼ CORNER OF SAID SECTION 22; THENCE S 02°10′57″ E 2633.28 FEET ALONG THE WEST LINE OF SAID SECTION 22 TO THE SOUTHWEST CORNER OF SAID SECTION 22; THENCE N 88°55′32″ E 1442.38 FEET ALONG THE SOUTH LINE OF SAID SECTION 22 TO THE CENTERLINE OF THE AIRPORT ENTRANCE ROAD; THENCE N 01°17′59″ W 454.13 FEET ALONG SAID ROAD CENTERLINE; THENCE S 88°37′07″ W 213.79 FEET; THENCE N 01°23′43″ W 137.98 FEET; THENCE N 88°37′07″ E 214.02 FEET TO THE CENTERLINE OF SAID AIRPORT ENTRANCE ROAD; THENCE N 01°17′59″ W 1681.87 FEET ALONG SAID ROAD CENTERLINE; THENCE S 88°42′01″ W 278.00 FEET; THENCE N 01°17′59″ W 150.00 FEET PARALLEL WITH SAID ROAD CENTERLINE; THENCE N 88°42′01″ E 278.00 FEET TO SAID ROAD CENTERLINE; THENCE N 01°17′59″ W 260.50 FEET ALONG SAID ROAD CENTERLINE; THENCE S 88°42′01″ W 550.00 FEET; THENCE N 01°17′59″ W 200.00 FEET PARALLEL WITH SAID ROAD CENTERLINE; THENCE N 88°42′01″ E 541.38 FEET TO SAID ROAD CENTERLINE; THENCE 304.69 FEET ALONG THE CENTERLINE OF SAID ROAD AND THE ARC OF A CURVE TO THE LEFT HAVING A RADIUS OF 825.00 FEET A DELTA ANGLE OF 21°09′39″ AND LONG CHORD BEARING N 20°10′10″ W 302.97 FEET; THENCE N 30°44′59″ W 371.11 FEET ALONG SAID ROAD CENTERLINE TO THE SOUTHERLY LINE OF THE EXCLUSIVE USE LEASE PARCEL OF THE UNITED STATE OF AMERICA; THENCE S 58°55′22″ W 32.43 FEET ALONG SAID LEASE LINE TO THE RIGHT OF WAY LINE OF AIRPORT ROAD; THENCE N 30°46′02″ W 994.76 FEET ALONG SAID LEASE LINE AND THE 33 FOOT RIGHT OF WAY LINE OF AIRPORT ROAD TO A POINT 100 FEET SOUTH OF AND AT A RIGHT ANGLE TO THE SOUTHERLY LINE OF THE APPROACH CLEARANCE AREA TO RUNWAY 7-25 AS EXTENDED; THENCE S 53°31′18″ W 849.07 FEET PARALLEL TO AND 100 FEET SOUTHERLY OF AND AT RIGHT ANGLES TO SAID SOUTHERLY LINE OF THE APPROACH CLEARANCE AREA TO RUNWAY 7-25 AS EXTENDED, BACK TO THE POINT OF BEGINNING. SAID PARCEL CONTAINING 126.12 ACRES, MORE OR LESS. BEING SUBJECT TO A CONSERVATION EASEMENT ON THE NORTH 700 FEET OF THE SW ¼ OF SAID SECTION 22, T31N, R7E, LESS THE NORTH, WEST AND EAST 75 FEET THEREOF. ALSO SUBJECT TO A RIGHT OF WAY OVER AND UPON THE SOUTH FOR STATE HIGHWAY M-32. ALSO SUBJECT TO A RIGHT OF WAY OVER AND UPON THE EASTERLY 50 FEET OF THE SOUTHERLY 3,494 FEET THEREOF FOR AIRPORT ROAD. ALSO SUBJECT TO ANY OTHER EASEMENTS, RESERVATIONS AND RESTRICTIONS, IF ANY.

Issued in Romulus, Michigan, on May 12, 2014.
John L. Mayfield, Jr.,
Manager, Detroit Airports District Office, FAA, Great Lakes Region.

[FR Doc. 2014-12677 Filed 5-30-14; 8:45 am]

BILLING CODE 4910-13-P